DEPARTMENT OF COMMERCE

International Trade Administration

[A-580-867]

Large Power Transformers From the Republic of Korea: Final Results of Antidumping Duty Changed Circumstances Review

AGENCY: Enforcement and Compliance, International Trade Administration, Department of Commerce.

SUMMARY: On August 9, 2023, the U.S. Department of Commerce (Commerce) published the initiation and preliminary results of the changed circumstances review (CCR) of the antidumping duty (AD) order on large power transformers (LPTs) from the Republic of Korea (Korea). For these final results, Commerce continues to find that HD Hyundai Electric Co., Ltd. (HDHE) is the successor-in-interest to Hyundai Electric & Energy Systems Col, Ltd. (HEES) in the context of the AD order on LPTs from Korea. Furthermore, HDHE is entitled to the AD cash deposit rate assigned to HEES with respect to entries of subject merchandise in the above-referenced proceeding.

DATES: Applicable September 26, 2023.

FOR FURTHER INFORMATION CONTACT: John K. Drury, AD/CVD Operations, Office VI, Enforcement and Compliance, International Trade Administration, U.S. Department of Commerce, 1401 Constitution Avenue NW, Washington, DC 20230; telephone: (202) 482-0195.

SUPPLEMENTARY INFORMATION:

Background

On August 9, 2023, Commerce published the initiation and preliminary results of this CCR, finding that HDHE is the successor-in-interest to HEES, and should be assigned the same AD cash deposit rate assigned to HEES in the AD order on large power transformers from Korea.¹ In the Initiation and Preliminary Results, interested parties were provided an opportunity to comment and to request a public hearing regarding our preliminary findings. HDHE submitted comments agreeing with our preliminary findings, and we received no other comments from interested parties.² Additionally, we received no requests for a hearing from interested parties.

¹ See Large Power Transformers from the Republic of Korea: Initiation and Preliminary Results of Antidumping Duty Changed Circumstances Review, 88 FR 53866 (August 9, 2023) (Initiation and Preliminary Results), and accompanying Preliminary Decision Memorandum (PDM).

² See HDHE's Letter, “Case Brief,” dated August 16, 2023.

Scope of the Order

The products covered by the order are LPTs from Korea. For a full description of the scope of the order, see the Initiation and Preliminary Results.³

³ See Initiation and Preliminary Results PDM.

Final Results of Changed Circumstances Review

For the reasons stated in the Initiation and Preliminary Results, and because we received no comments from interested parties to the contrary, Commerce continues to find that HDHE is the successor-in-interest to HEES for purposes of the AD order on large power transformers from Korea. As a result of this determination, HDHE is entitled to the same AD cash deposit rate as HEES with respect to entries of subject merchandise in the above-noted proceeding. As there are no changes from the Initiation and Preliminary Results, there is no decision memorandum accompanying this notice and the determination in the Initiation and Preliminary Results is hereby adopted as the final results of this CCR.

Commerce will instruct U.S. Customs and Border Protection to suspend liquidation of all shipments of subject merchandise produced or exported by HDHE and entered, or withdrawn from warehouse, for consumption on or after the publication date of this notice in the Federal Register at the current AD cash deposit rate on LPTs in effect for HEES. These cash deposit requirements shall remain in effect until further notice.

Administrative Protective Order

This notice serves as a final reminder to parties subject to an administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

Notification to Interested Parties

This notice is published in accordance with sections 751(b)(1) and 777(i)(1) and (2) of the Tariff Act of 1930, as amended, and 19 CFR 351.216(e) and 351.221(b).

Dated: September 20, 2023.
Lisa W. Wang,
Assistant Secretary for Enforcement and Compliance.

[FR Doc. 2023-20884 Filed 9-25-23; 8:45 am]

BILLING CODE 3510-DS-P